DEPARTMENT OF COMMERCE

International Trade Administration

[A-580-601]

Top-of-the-Stove Stainless Steel Cooking Ware From the Republic of Korea: Final Results and Rescission, in Part, of Antidumping Duty Administrative Review

AGENCY: Import Administration, International Trade Administration, Department of Commerce.

ACTION: Notice of Final Results of Antidumping Duty Administrative Review.

SUMMARY: On February 23, 2001, the Department of Commerce (the Department) published the preliminary results of administrative review of the antidumping duty order on top-of-the-stove stainless steel cooking ware (cookware) from the Republic of Korea. The merchandise covered by this order is cookware from the Republic of Korea. The review covers twenty-seven manufacturers of subject merchandise: Daelim Trading Co., Ltd. (Daelim), Dong Won Metal Co., Ltd. (Dong Won), Chefline Corporation (Chefline), Sam Yeung Ind. Co., Ltd. (Samyeung), Namyang Kitchenflower Co., Ltd. (Namyang), Kyung-Dong Industrial Co., Ltd. (Kyung-Dong), Ssang Yong Ind. Co., Ltd. (Ssangyong), O. Bok Stainless Steel Co., Ltd. (O. Bok), Dong Hwa Stainless Steel Co., Ltd. (Dong Hwa), Il Shin Co., Ltd. (Il Shin), Hai Dong Stainless Steel Ind. Co., Ltd. (Hai Dong), Han Il Stainless Steel Ind. Co., Ltd. (Han Il), Bae Chin Metal Ind. Co. (Bae Chin), East One Co., Ltd. (East One), Charming Art Co., Ltd. (Charming Art), Poong Kang Ind. Co., Ltd. (Poong Kang), Won Jin Ind. Co., Ltd. (Won Jin), Wonkwang Inc. (Wonkwang), Sungjin International Inc. (Sungjin), Sae Kwang Aluminum Co., Ltd. (Sae Kwang), Woosung Co., Ltd., (Woosung), Hanil Stainless Steel Ind. Co., Ltd.,¹ Seshin Co., Ltd. (Seshin), Pionix Corporation (Pionix), East West Trading Korea, Ltd. (East West), Clad Co., Ltd. (Clad), and B.Y. Enterprise, Ltd (B.Y.). The period of review (POR) is January 1, 1999, through December 31, 1999. Based on our analysis of the comments received, we have made changes in the margin calculations. Therefore, the final results differ from the preliminary results. The final weighted-average dumping margins for the reviewed firms are listed below in the section entitled “Final Results of the Review.”

¹ Same company as Han Il Stainless Ind. Co., Ltd. listed above.

EFFECTIVE DATE: August 29, 2001.

FOR FURTHER INFORMATION CONTACT: Paige Rivas or Ron Trentham, AD/CVD Enforcement, Office 4, Group II, Import Administration, International Trade Administration, U.S. Department of Commerce, 14th Street and Constitution Ave., N.W., Washington, D.C. 20230; telephone: (202) 482-0651 or 482-6320, respectively.

SUPPLEMENTARY INFORMATION:

The Applicable Statute

Unless otherwise indicated, all citations to the Tariff Act of 1930, as amended (the Act), are references to the provisions effective January 1, 1995, the effective date of the amendments made to the Act by the Uruguay Round Agreements Act (URAA). In addition, unless otherwise indicated, all citations to the Department's regulations are to 19 CFR part 351 (2000).

Background

On February 23, 2001, the Department published the preliminary results of the 1999 administrative review of the antidumping duty order on cookware from Korea. See Top-of-the-Stove Stainless Steel Cooking Ware from Korea: Preliminary Results and Rescission, in Part, of Antidumping Duty Administrative Review, 66 FR 11259 (February 23, 2001) (Preliminary Results). We invited parties to comment on our preliminary results of review. On March 26, 2001, we received case briefs from the Stainless Steel Cookware Committee (the petitioner) and Dong Won and Daelim (the respondents). On April 2, 2001, we received rebuttal briefs from the petitioner and respondents. The Department has conducted this administrative review in accordance with section 751 of the Act.

Scope of Review

The merchandise subject to this antidumping order is top-of-the-stove stainless steel cookware from Korea. The subject merchandise is all non-electric cooking ware of stainless steel which may have one or more layers of aluminum, copper or carbon steel for more even heat distribution. The subject merchandise includes skillets, frying pans, omelette pans, saucepans, double boilers, stock pots, dutch ovens, casseroles, steamers, and other stainless steel vessels, all for cooking on stove top burners, except tea kettles and fish poachers. Excluded from the scope of the order are stainless steel oven ware and stainless steel kitchen ware. The subject merchandise is currently classifiable under Harmonized Tariff Schedule (HTS) item numbers 7323.93.00 and 9604.00.00. The HTS item numbers are provided for convenience and Customs purposes only. The written description remains dispositive.

The Department has issued several scope clarifications for this order. The Department found that certain stainless steel pasta and steamer inserts (63 FR 41545, August 4, 1998), certain stainless steel eight-cup coffee percolators (58 FR 11209, February 24, 1993), and certain stainless steel stock pots and covers are within the scope of the order (57 FR 57420, December 4, 1992). Moreover, as a result of a changed circumstances review, the Department revoked the order on Korea in part with respect to certain stainless steel camping ware (1) made of single-ply stainless steel having a thickness no greater than 6.0 millimeters; and (2) consisting of 1.0, 1.5, and 2.0 quart saucepans without handles and with lids that also serve as fry pans (62 FR 3662, January 24, 1997).

Partial Recession of Review

In our preliminary results, we determined that the following companies made no shipments of subject merchandise to the United States during the POR: Sugjin, O. Bok, Won Jin, Hai Dong, Pionix, Seshin, Dong Hwa, Wonkwang, and Charming Art. Our review of Customs import data indicated that there were no entries of subject merchandise made by these manufacturers/exporters during the POR. See Preliminary Results. Because we received no comments from interested parties on our preliminary decision to rescind the review with respect to the above companies, we have determined that no changes to our decision to rescind are warranted for purposes of these final results. Therefore, we are rescinding this review with respect to these manufacturers/exporters.

On March 17, 2000, counsel for Chefline requested that the Department rescind the review with respect to Woosung. Woosung is Chefline's original corporate name which was changed to Chefline in March 1996. Since Chefline submitted uncontested evidence on the record to support its claim and petitioner did not object to Chefline's request for recission with regard to Woosung, we preliminarily rescinded the review with respect to Woosung. See Preliminary Results. Because we received no comments from interested parties on our preliminary decision to rescind the review with respect to Woosung, we have determined that no changes to our decision to rescind are warranted for purposes of these final results. Therefore, we are rescinding this review with respect to Woosung.

Facts Available (FA)

In accordance with section 776 of the Act, we have determined that the use of adverse FA is warranted for 14 companies for these final results of review.

1. Application of FA

Section 776(a) of the Act provides that, if an interested party withholds information that has been requested by the Department, fails to provide such information in a timely manner or in the form or manner requested, significantly impedes a proceeding under the antidumping statute, or provides information which cannot be verified, the Department shall use, subject to sections 782(d) and (e), facts otherwise available in reaching the applicable determination. In this review, as described in detail below, the above-referenced companies failed to provide the necessary information in the form and manner requested, and, in some instances, the submitted information could not be verified. Thus, pursuant to section 776(a) of the Act, the Department is required to apply, subject to section 782(d), facts otherwise available.

Section 782(d) of the Act provides that, if the Department determines that a response to a request for information does not comply with the request, the Department will inform the person submitting the response of the nature of the deficiency and shall, to the extent practicable, provide that person the opportunity to remedy or explain the deficiency. If that person submits further information that continues to be unsatisfactory, or this information is not submitted within the applicable time limits, the Department may, subject to section 782(e), disregard all or part of the original and subsequent responses, as appropriate.

Pursuant to section 782(e) of the Act, notwithstanding the Department's determination that the submitted information is “deficient” under section 782(d) of the Act, the Department shall not decline to consider such information if all of the following requirements are satisfied: (1) The information is submitted by the established deadline; (2) the information can be verified; (3) the information is not so incomplete that it cannot serve as a reliable basis for reaching the applicable determination; (4) the interested party has demonstrated that it acted to the best of its ability; and (5) the information can be used without undue difficulties.

The Department has concluded that, because B.Y., Clad , Sae Kwang, East One, East West, Bae Chin, Han Il, Il Shin, Kyung-Dong, Poong Kang, Namyang, Chefline, Sangyong and Samyeung failed to respond to the Department's questionnaire, a determination based on total FA is warranted for these companies. See the Preliminary Results for a detailed discussion of this analysis.

2. Selection of FA

In selecting from among the facts otherwise available, section 776(b) of the Act authorizes the Department to use an adverse inference if the Department finds that an interested party failed to cooperate by not acting to the best of its ability to comply with the request for information. See, e.g., Certain Welded Carbon Steel Pipes and Tubes From Thailand: Final Results of Antidumping Duty Administrative Review, 62 FR 53808, 53819-20 (October 16, 1997). In the Preliminary Results, the Department determined that because B.Y., Clad, Sae Kwang, East One, East West, Bae Chin, Han Il, Il Shin, Kyung-Dong, Poong Kang, Namyang, and Chefline wholly failed to respond to the Department's questionnaire, they did not act to the best of their respective ability, and therefore an adverse inference is warranted in applying FA for these companies. Further, the Department determined that because Sangyong failed to respond to sections B and C of the Department's questionnaire and Samyeung failed to respond to section D of the Department's questionnaire, these companies failed to act to the best of their respective abilities, and therefore an adverse inference is warranted in applying FA for these companies.

For the final results, no interested party comments were submitted regarding this issue and we continue to find that the failure of the 14 manufacturers/exporters listed above either to respond to the Department's questionnaire in this review, either in whole or in part, demonstrates that these entities failed to cooperate by not acting to the best of their ability. Thus, consistent with the Department's practice in cases where a respondent fails to respond to the Department's questionnaire, in selecting FA for the 14 manufacturers/exporters listed above an adverse inference is warranted. For a discussion of the application of an adverse inference in this case, see Preliminary Results, 66 FR at 11262.

As adverse FA, we are assigning B.Y., Clad, Sae Kwang, East One, East West, Bae Chin, Han Il, Il Shin, Kyung-Dong, Poong Kang, Namyang, Chefline, Sangyong and Samyeung the highest rate calculated for any respondent in any segment of this proceeding. This rate is 31.23 percent. See Final Determination of Sales at Less Than Fair Value; Certain Stainless Steel Cookware from Korea, 51 FR 42873 (November 26, 1986) (Final LTFV Determination). For a discussion on corroboration of the 31.23 percent FA rate, see Memorandum on Application of Facts Available for Sam Yeung Ind. Co., Ltd. (Samyeung) in the Preliminary Results of the 1999 Administrative Review, dated January 30, 2001. Also, for a general discussion of the relevance of the selected FA rate for all non-cooperating respondents, see Preliminary Results, 66 FR at 11263-11264.

Analysis of Comments Received

All issues raised in the case and rebuttal briefs by parties to this administrative review are addressed in the “Issues and Decision Memorandum” (Decision Memorandum) from Bernard T. Carreau, Deputy Assistant Secretary, Import Administration, to Faryar Shirzad, Assistant Secretary for Import Administration, dated August 22, 2001, which is hereby adopted by this notice. A list of the issues which parties have raised and to which we have responded, all of which are in the Decision Memorandum, is attached to this notice as an Appendix. Parties can find a complete discussion of all issues raised in this review and the corresponding recommendations in this public memorandum which is on file in the Central Records Unit, room B-099 of the main Department building. In addition, a complete version of the Decision Memorandum can be accessed directly on the Web at http://ia.ita.doc.gov/frn/summary/list.htm. The paper copy and electronic version of the Decision Memorandum are identical in content.

Changes Since the Preliminary Results

Based on our analysis of comments received, we have made certain changes in the margin calculations. These changes are discussed in the relevant sections of the Decision Memorandum.

Final Results of Review

We determine that the following percentage weighted-average margins exist for the period January 1, 1999 through, December 31, 1999:

Manufacturer/exporter | Margin (percent)
Dong Won Metal Co., Ltd | 16.03
Dae-Lim Trading Co., Ltd | 1.67
Sam Yeung Ind. Co., Ltd | 31.23
SsangYong Ind. Co., Ltd | 31.23
Chefline Corporation | 31.23
B.Y Enterprise, Ltd | 31.23
Clad Co., Ltd | 31.23
Sae Skwang Aluminum Co., Ltd | 31.23
East One Co., Ltd | 31.23
East West Trading Korea, Ltd | 31.23
Bae Chin Metal Ind. Co | 31.23
Han Il Stainless Steel Ind. Co., Ltd | 31.23
Il Shin Co., Ltd | 31.23
Kyung-Dong Industrial Co., Ltd | 31.23
Poong Kang Ind. Co., Ltd | 31.23
Namyang Kitchen Flower Co., Ltd | 31.23

Assessment

The Department shall determine, and the U.S. Customs Service shall assess, antidumping duties on all appropriate entries. The Department will issue appraisement instructions directly to the Customs Service. In accordance with 19 CFR 351.212(b)(1), we have calculated for Daelim and Dong Won importer-specific assessment rates based on the ratio of the total amount of antidumping duties calculated for the importer-specific sales to the total entered value of the same sales. For all other respondents, we based the assessment rate on the facts available margin percentage. Where the importer-specific assessment rate is above de minimis, we will instruct Customs to assess antidumping duties on that importer's entries of subject merchandise.

Cash Deposit Requirements

The following deposit requirements will be effective upon publication of this notice of final results of these administrative reviews for all shipments of top-of-stove stainless steel cooking ware from Korea entered, or withdrawn from warehouse, for consumption on or after publication date of the final results of these administrative reviews, as provided by section 751(a)(1) of the Act: (1) The cash deposit rate for the reviewed companies will be the rate established in the final results of this administrative review, except if the rate is less than 0.5 percent ad valorem and, therefore, de minimis, no cash deposit will be required; (2) for exporters not covered in this review, but covered in the original LTFV investigation or a previous review, the cash deposit rate will continue to be the company-specific rate published in the most recent period; (3) if the exporter is not a firm covered in this review, a previous review, or the original LTFV investigation, but the manufacturer is, the cash deposit rate will be the rate established for the most recent period for the manufacturer of the merchandise; and (4) if neither the exporter nor the manufacturer is a firm covered in this or any previous reviews or the LTFV investigation, the cash deposit rate will be 8.10 percent, the “all-others” rate established in the LTFV investigation. These deposit requirements, when imposed, shall remain in effect until publication of the final results of the next administrative review.

Notification

This notice serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

We are issuing and publishing this determination and notice in accordance with sections 751(a)(1) and 777(i) of the Act.

Dated: August 21, 2001.
Joseph A. Spetrini,
Acting Assistant Secretary for Import Administration.

Appendix—Issues in Decision Memorandum

Comments and Responses

1. Model Match Methodology.

2. Circumstance of Sale Adjustment for Commissions Incurred on Dong Won Sales in Canada.

3. Home Market Inland Freight Adjustment for Daelim.

4. Constructed Value Selling Expenses for Dong Won and Daelim.

5. Imputed Inventory Carrying Costs for Dong Won and Daelim.

6. Weighted-Average Third-Country Expenses for Dong Won.

7. Conversion of Third-Country Expenses from Korean Won to U.S. Dollars for Dong Won.

8. Matching Factors with Respect to Don Wong's Products.

9. Ministerial Error in Daelim's Margin Program Regarding Net interest Expense for the Calculation of Constructed Value.

[FR Doc. 01-21834 Filed 8-28-01; 8:45 am]

BILLING CODE 3510-DS-P